DEPARTMENT OF AGRICULTURE

Agricultural Marketing Service

7 CFR Part 51

[Doc. No. AMS-SC-16-0005]

U.S. Standards for Grades of Shelled Walnuts and Walnuts in the Shell

AGENCY: Agricultural Marketing Service, USDA.

ACTION: Reopening of comment period.

SUMMARY: Notice is hereby given that Agricultural Marketing Service (AMS) is reopening the comment period on the proposed rule that invited comments on the revision of the U.S. Standards for Grades of Shelled Walnuts and U.S. Standards for Grades of Walnuts in the Shell published in the Federal Register on November 25, 2016. The comment period for this proposed rule closed on January 24, 2017. The changes are intended to modernize the standards, and meet consumer demands by providing greater marketing flexibility.

DATES: Comments on the proposed rule published in the Federal Register on November 25, 2016 (81 FR 85164) must be received by April 24, 2017.

ADDRESSES: Interested persons are invited to submit comments on the proposed rule via the Internet at: http://www.regulations.gov. Comments may also be submitted to Standardization Branch, Specialty Crops Inspection Division, Specialty Crops Program, AMS, USDA, Training and Development Center, 100 Riverside Parkway, Suite 101, Fredericksburg, Virginia 22406; or via fax (540) 361-1199. All comments should reference the document number and the dates and page numbers of this issue, and the November 25, 2016, issue of the Federal Register. All comments received will be posted online without change, including any personal information provided, and will be made available for public inspection at the above physical address during regular business hours.

FOR FURTHER INFORMATION CONTACT: David G. Horner at the address above, telephone: (540) 361-1120, fax: (540) 361-1199, or email: Dave.Horner@ams.usda.gov.

SUPPLEMENTARY INFORMATION: A proposed rule was published in the Federal Register on November 25, 2016 (81 FR 85164) that would revise the grade standards to permit certification of red colored walnuts. Such a change would facilitate the marketing of increasingly popular red varieties of walnuts in both domestic and export markets.

The 60-day comment period provided in the proposed rule closed January 24, 2017. The comment period for the proposed rule is reopened until April 24, 2017. AMS is reopening the public comment period for 30 days to ensure that interested persons have sufficient time to review and comment on the proposed rule.

Authority: 7 U.S.C. 601-674.

Dated: March 7, 2017.
Bruce Summers,
Acting Administrator, Agricultural Marketing Service.

[FR Doc. 2017-04805 Filed 3-22-17; 8:45 am]

BILLING CODE 3410-02-P